DEPARTMENT OF COMMERCE

National Oceanic and Atmospheric Administration

RIN 0648-XI48

Endangered and Threatened Species; Take of Anadromous Fish

AGENCY: National Marine Fisheries Service (NMFS), National Oceanic and Atmospheric Administration (NOAA), Commerce.

ACTION: Applications for one new scientific research permit and one permit modification.

SUMMARY: Notice is hereby given that NMFS has received two scientific research permit application requests relating to Pacific salmon. The proposed research is intended to increase knowledge of species listed under the Endangered Species Act (ESA) and to help guide management and conservation efforts.

DATES: Comments or requests for a public hearing on the applications must be received at the appropriate address or fax number (see ADDRESSES) no later than 5 p.m. Pacific standard time on July 24, 2008.

ADDRESSES: Written comments on the applications should be sent to the Protected Resources Division, NMFS, 1201 NE Lloyd Blvd., Suite 1100, Portland, OR 97232-1274. Comments may also be sent via fax to 503-230-5441 or by e-mail to resapps.nwr@NOAA.gov.

FOR FURTHER INFORMATION CONTACT: Blane Bellerud, Portland, OR (ph.: 503-231-2338, Fax: 503-231-2318, e-mail: Blane.Bellerud@noaa.gov). Permit application instructions are available from the address above.

SUPPLEMENTARY INFORMATION:

Species Covered in This Notice

The following listed species are covered in this notice:

Chinook salmon (Oncorhynchus tshawytscha): threatened lower Columbia River (LCR), threatened upper Willamette River (UWR), endangered upper Columbia River (UCR), threatened Snake River (SR) spring/summer (spr/sum), threatened SR fall.

Chum salmon (O. keta): threatened Columbia River (CR.

Steelhead (O. mykiss): threatened LCR, threatened UWR, threatened middle Columbia River (MCR), threatened SR, endangered UCR, threatened PS.

Coho salmon (O. kisutch): threatened LCR, threatened Oregon Coast (OC).

Sockeye salmon (O. nerka): endangered SR.

Authority

Scientific research permits are issued in accordance with section 10(a)(1)(A) of the ESA (16 U.S.C. 1531 et seq.) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1318 - Modification 1

Permit 1318 currently authorizes the Oregon Department of Fish and Wildlife (ODFW) to take juvenile UCR Chinook salmon, UCR steelhead, SR steelhead, SR fall-run Chinook salmon, SR spr/sum Chinook salmon, SR sockeye salmon, MCR steelhead, UWR Chinook salmon, UWR steelhead, LCR Chinook salmon, LCR coho salmon, LCR steelhead, and CR chum salmon in the Willamette and Columbia River basins. They are asking to modify the permit so they may be allowed to take OC coho salmon; they also wish to add a seventh project to the permit. The Permit currently contains the following projects: (1) Warm Water Fish Management Surveys; (2) Investigations of Natural Production of Spring Chinook Salmon in the Mohawk System; (3) Genetic Characterization of Rainbow Trout in the Upper Willamette System; (4) Fish Abundance, Population Status, Genetics and Disease Surveys in the Upper Willamette Basin; (5) Native Rainbow and Cutthroat Trout Surveys for Abundance, Size Composition, and Migration Patterns in the Mainstem McKenzie River; (6) Resident Redband Population Estimates in the Deschutes River. The ODFW wishes to add (7) Resident Redband Population Estimates in the Crooked River.

The purpose of the research is to gather information on fish population structure, abundance, genetics, disease occurrences, and species interactions throughout many anadromous fish-bearing basins in Oregon. That information would be used to direct management actions to benefit listed species. Juvenile salmonids would be collected during boat electrofishing operations in the subbasins listed in the project titles above. Some fish would be anesthetized, sampled for length and weight, allowed to recover from the anesthesia, and released; most would only be shocked and allowed to swim away, or be netted and immediately released. The ODFW does not intend to kill any of the fish being captured, but a small number may die as an unintended result of the activities.

Permit 13494

The Bonneville Power Administration (BPA) is requesting a 5-year research permit to take LCR Chinook salmon, CR coho salmon, and LCR steelhead during fish collection and transport activities on the Cowlitz River, Washington. The purpose of the research is to determine the fishes' response to being collected and transported around two dams that currently have no downstream fish passage. The activities will take place at a facility that is co-located with the Cowlitz Falls Hydroelectric dam on the upper Cowlitz River in southeastern Washington State.

The fish collection facility is a key component of ongoing efforts to re-establish self-supporting populations of anadromous salmonids in the upper Cowlitz river basin. The proposed research seeks to (1) improve fish collection efficiency by modifying the operation and physical structure of the fish collection facility, and (2) develop an ongoing transportation program to maintain fish populations. The research would benefit the fish by helping them get access to (and egress from) new habitat that was previously cut off by impassible barriers. Fish collected at the facility would be transported by truck and released in the free-flowing section of the Cowlitz River downstream of the hydropower projects. Scales and other biological samples would be taken from some of the fish. The BPA does not intend to kill any of the fish being studied, but a small percentage of them may be killed as an unintended result of the research.

This notice is provided pursuant to section 10(c) of the ESA. NMFS will evaluate the application, associated documents, and comments submitted to determine whether the application meets the requirements of section 10(a) of the ESA and Federal regulations. The final permit decisions will not be made until after the end of the 30-day comment period. NMFS will publish notice of its final action in the Federal Register.

Dated: June 17, 2008.
Angela Somma,
Chief, Endangered Species Division, Office of Protected Resources, National Marine Fisheries Service.

[FR Doc. E8-14259 Filed 6-23-08; 8:45 am]

BILLING CODE 3510-22-S